FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

ET Date | Trans No. | ET req. status | Party name
Transaction Granted Early Termination
01-NOV-10 | 20110087 | G | John B. Hess.
|  | G | Hess Corporation.
|  | G | Hess Corporation.
02-NOV-10 | 20110011 | G | Focus Brands Holdings Inc.
|  | G | Samuel R. Beiler.
|  | G | Auntie Anne's Food, Inc.
| 20110089 | G | ASSA ABLOY AB.
|  | G | Actividentity Corporation.
|  | G | Actividentity Corporation.
03-NOV-10 | 20110038 | G | ACS Actividades de Construccion y Servicios, S.A.
|  | G | HOCHTIEF Aktiengesellschaft.
|  | G | HOCHTIEF Aktiengesellschaft.
| 20110063 | G | BAE Systems plc.
|  | G | L-1 Identity Solutions, Inc.
|  | G | SpecTal, LLC.
|  | G | Advanced Concepts, Inc.
|  | G | McClendon, LLC.
| 20110067 | G | The Veritas Capital Fund IV, L.P.
|  | G | Lockheed Martin Corporation.
|  | G | Lockheed Martin Corporation.
| 20110094 | G | LS Power Equity Partners II, L.P.
|  | G | PPL Corporation.
|  | G | Newco, LLC.
|  | G | Safe Harbor Water Power Corporation.
|  | G | PPL Wallingford Energy, LLC.
| 20110095 | G | LS Power Equity Partners II, L.P.
|  | G | Constellation Energy Group, Inc.
|  | G | Safe Harbor Water Power Corporation.
4-NOV-10 | 20110056 | G | Koninklijke Philips Electronics N.y.
|  | G | Discus Holdings, Inc.
|  | G | Discus Holdings, Inc.
| 20110100 | G | Riverside Capital Appreciation Fund V, L.P.
|  | G | Edgewater Growth Capital Partners II, LP.
|  | G | GHW Holdings Corporation.
Transaction Granted Early Termination
05-NOV-10 | 20110078 | G | Mason Capital Master Fund, LP.
|  | G | The Babcock & Wilcox Company.
|  | G | The Babcock & Wilcox Company.
| 20110092 | G | Dr. Ernst Volgeneau.
|  | G | Laila N. Rossi.
|  | G | Platinum Solutions, Inc.
| 20110099 | G | Gammon Gold Inc.
|  | G | Capital Gold Corporation.
|  | G | Capital Gold Corporation.
08-NOV-10 | 20110015 | G | Providence Equity Partners VI L.P.
|  | G | Nighthawk Radiology Holdings Inc.
|  | G | Nighthawk Radiology Holdings Inc.
| 20110088 | G | Deere & Company.
|  | G | Anden Van Beek.
|  | G | A&I Products, Inc.
| 20110096 | G | Grupo Televisa, S.A.B.
|  | G | Broadcasting Media Partners, Inc.
|  | G | Broadcasting Media Partners, Inc.
| 20110107 | G | Centerview Capital, L.P.
|  | G | Brynwood Partners V L.P.
|  | G | Richelieu Foods, Inc.
| 20110113 | G | Rayburn Country Electric Cooperative, Inc.
|  | G | Calpine Corporation.
|  | G | Freestone Power Generation LP.
| 20110115 | G | ORIX Corporation.
|  | G | MIG Holdings, LLC.
|  | G | MIG Holdings, LLC.
| 20110117 | G | Littlejohn Fund IV, L.P.
|  | G | Wynnchurch Capital Partners II, L.P.
|  | G | Henniges Automotive Holdings, Inc.
| 20110126 | G | Court Square Capital Partners II, L.P.
|  | G | New Mountain Partners II, L.P.
|  | G | MailSouth, Inc.
Transaction Granted Early Termination
09-NOV-10 | 20110076 | G | St. Jude Medical, Inc.
|  | G | AGA Medical Holdings, Inc.
|  | G | AGA Medical Holdings, Inc.
| 20110104 | G | Baker Brothers Life Sciences, L.P.
|  | G | ViroPharma Incorporated.
|  | G | Viropharma Incorporated.
15-NOV-10 | 20110120 | G | Roark Capital Partners II, LP.
|  | G | North Castle Partners 2007, LP.
|  | G | NCP-ATK Holdings, Inc.
|  | G | Bora Bora Ltd.
| 20110125 | G | Nippon Telegraph and Telephone Corporation.
|  | G | Citigroup Inc.
|  | G | Keane International, Inc.
| 20110130 | G | Charlesbank Equity Fund VII, Limited Partnership.
|  | G | Coretec Group Fund Ill, L.P.
|  | G | FFR Holding Corporation.
| 20110134 | G | Riverside Capital Appreciation Fund V LP.
|  | G | FdG Capital Partners II LP.
|  | G | Sunrise Windows Ltd.
| 20110136 | G | TSG5 L.P.
|  | G | John M. Jansheski.
|  | G | DenTek Oral Care, Inc.
| 20110149 | G | Charlesbank Equity Fund VII, Limited Partnership.
|  | G | Oncore Topco Corporation.
|  | G | Oncore Topco Corporation.
| 20110162 | G | Sentinel Capital Partners IV, L.P.
|  | G | Raymond Mershon Craig Ill.
|  | G | Critical Solutions International, Inc.
| 20110163 | G | Sentinel Capital Partners IV, L.P.
|  | G | Edward R. Fearon.
|  | G | Critical Solutions International, Inc.
Transaction Granted Early Termination
16-NOV-10 | 20101190 | G | Calix, Inc.
|  | G | Occam Networks, Inc.
|  | G | Occam Networks, Inc.
| 20110081 | G | AB SKF.
|  | G | Harbour Group Investments IV, L.P.
|  | G | Lincoln Holdings Enterprises, Inc.
| 20110131 | G | Platinum Equity Capital Partners II, L.P.
|  | G | American Commercial Lines Inc.
|  | G | American Commercial Lines Inc.
| 20110132 | G | WPP plc.
|  | G | I-Behavior Inc.
|  | G | I-Behavior Inc.
| 20110133 | G | Ares Corporate Opportunities Fund III, LP.
|  | G | Floor and Decor Outlets of America, Inc.
|  | G | Floor and Decor Outlets of America, Inc.
| 20110135 | G | Belden Inc.
|  | G | Thomas & Betts Corporation.
|  | G | Thomas & Betts Corporation.
|  | G | Thomas & Betts Inernational, Inc.
| 20110138 | G | Genesis Energy, L.P.
|  | G | Valero Energy Corporation.
|  | G | Valero CHOPS GP. L.L.C.
|  | G | Valero CHOPS II, L.P.
|  | G | Valero CHOPS I, L.P.
| 20110139 | G | 2003 TIL Settlement.
|  | G | Pangea3 Inc.
|  | G | Pangea3 Inc.
| 20110140 | G | Essex Rental Corp.
|  | G | Coast Crane Company.
|  | G | Coast Crane Company..
| 20110145 | G | Robbins & Myers, Inc.
|  | G | T-3 Energy Services, Inc.
|  | G | T-3 Energy Services, Inc.
| 20110146 | G | Carlyle Partners V, L.P.
|  | G | CommScope, Inc.
|  | G | CommScope, Inc.
| 20110150 | G | Sprott Inc.
|  | G | Arthur Richards Rule IV & Bonnie Rule.
Transaction Granted Early Termination
16-NOV-10 | 20110150 | G | Resource Capital Investment, Corp.
|  | G | Terra Resources Investment Management, Inc.
|  | G | RuleInvestments, Inc.
| 20110156 | G | Tilman J. Fertitta.
|  | G | Claim Jumper Restaurants, LLC.
|  | G | Claim Jumper Restaurants, LLC.
| 20110167 | G | Blackstone Capital Partners (Cayman) V-NQ L.P.
|  | G | Robert K. Hall.
|  | G | RK Hall Construction Limited.
|  | G | SCS Materials, L.P.
|  | G | Hall Materials, KID.
|  | G | B&H Contracting, L.P.
|  | G | RHMB Capital, LLC.
| 20110168 | G | Blackstone Capital Partners (Cayman) V-NQ L.P.
|  | G | Mark Buster.
|  | G | RHMB Capital, LLC.
|  | G | B&H Contracting, L.P.
|  | G | SCS Materials, L.P.
|  | G | RK Hall Construction Limited.
|  | G | Hall Materials, LTD.
17-NOV-10 | 20101200 | G | Laboratory Corporation of America Holdings.
|  | G | Genzyme Corporation.
|  | G | Genzyme Genetic Counseling, LLC.
| 20110151 | G | General Electric Company.
|  | G | Clarient, Inc.
|  | G | Clarient, Inc.
18-NOV-10 | 20110159 | G | Carlyle Partners V, L.P.
|  | G | Syniverse Holdings, Inc.
|  | G | Syniverse Holdings, Inc.
| 20110160 | G | Lion Capital Fund III (USD), L.P.
|  | G | Bumble Bee Foods, L.P.
|  | G | Stinson Seafood (2001), Inc.
| 20110164 | G | Athene Group Ltd.
|  | G | Royal Bank of Canada.
|  | G | Liberty Life Insurance Company.

FOR FURTHER INFORMATION CONTACT: Sandra M. Peay, Contact Representative, or Renee Chapman, Contact Representative, Federal Trade Commission, Premerger Notification Office, Bureau of Competition, Room H-303, Washington, DC 20580, (202) 326-3100.

By direction of the Commission.
Donald S. Clark,
Secretary.

[FR Doc. 2010-30806 Filed 12-8-10; 8:45 am]

BILLING CODE 6750-01-M